DEPARTMENT OF HEALTH AND HUMAN SERVICES

Health Resources and Services Administration

Agency Information Collection Activities: Submission to OMB for Review and Approval; Public Comment Request; The National Health Service Corps Loan Repayment Programs

AGENCY: Health Resources and Services Administration (HRSA), Department of Health and Human Services.

ACTION: Notice.

SUMMARY: In compliance with the Paperwork Reduction Act of 1995, HRSA submitted an Information Collection Request (ICR) to the Office of Management and Budget (OMB) for review and approval. Comments submitted during the first public review of this ICR will be provided to OMB. OMB will accept further comments from the public during the review and approval period. OMB may act on HRSA's ICR only after the 30-day comment period for this notice has closed.

DATES: Comments on this Information Collection Request must be received no later than February 17, 2023.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: To request more information on the proposed project or to obtain a copy of the data collection plans and draft instruments, email paperwork@hrsa.gov or call Samantha Miller, the acting HRSA Information Collection Clearance Officer at 301-594-4394.

SUPPLEMENTARY INFORMATION:

Information Collection Request Title: The National Health Service Corps Loan Repayment Programs OMB No. 0915-0127—Revision.

Abstract: The National Health Service Corps (NHSC) Loan Repayment Program (LRP) was established to assure an adequate supply of trained primary care health professionals to provide services in Health Professional Shortage Areas (HPSAs) of the United States with the greatest need. The NHSC Substance Use Disorder Workforce LRP and the NHSC Rural Community LRP were established to recruit and retain a health professional workforce with specific training and credentials to provide evidence-based substance use disorder treatment in HPSAs. Under these programs, the Department of Health and Human Services agrees to repay the qualifying educational loans of selected primary care health professionals. In return, the health professionals agree to serve for a specified period of time in an NHSC-approved site located in a federally-designated HPSA approved by the Secretary of Health and Human Services for LRP participants.

The forms used by each LRP include the following: (1) the NHSC LRP Application, (2) the Authorization for Disclosure of Loan Information Form, (3) the Privacy Act Release Authorization Form, and, if applicable, (4) the Verification of Disadvantaged Background Form, and (5) the Private Practice Option Form. The first four of the aforementioned NHSC LRP Forms collect information that is needed for selecting participants and repaying qualifying educational loans. The last referenced form, the Private Practice Option Form, is needed to collect information for all participants who have applied for that service option.

NHSC-approved sites are health care facilities that provide comprehensive outpatient, ambulatory, primary health care services to populations residing in HPSAs. Related in-patient services may be provided by NHSC-approved Critical Access Hospitals and Indian Health Service hospitals. In order to become an NHSC-approved site, new sites must submit a Site Application for review and approval. Existing NHSC-approved sites are required to complete a Site Recertification Application every 3 years in order to maintain their NHSC-approved status. Both the NHSC Site Application and Site Recertification Application request information on the clinical service site, sponsoring agency, recruitment contact, staffing levels, service users, charges for services, employment policies, and fiscal management capabilities. Assistance in completing these applications may be obtained through the appropriate State Primary Care Offices and the NHSC. The information collected on the applications is used for determining the eligibility of sites for the assignment of NHSC health professionals and to verify the need for NHSC clinicians. NHSC service site approval is valid for 3 years.

A 60-day notice was published in the Federal Register on October 31, 2022, vol. 87, No. 209; pp. 65598-00. There were no public comments.

Need and Proposed Use of the Information: The need and proposed use of this information collection is to assess an LRP applicant's eligibility and qualifications for the LRP, and to obtain information for NHSC site applicants. The NHSC LRP application asks for personal, professional, and financial/loan information.

The proposed revisions in this ICR include asking applicants to provide their educational information on the completion of postgraduate training. The NHSC will use this information to identify graduates or completers of the following HRSA-funded programs: the Primary Care Training and Enhancement: Training Primary Care Champions Program, the Addiction Medicine Fellowship Program, the Teaching Health Center Graduate Medical Education Program, the Advanced Nursing Education Nurse Practitioner Residency Program, and the Advanced Nursing Education Nurse Practitioner Residency Integration Program. To identify the graduates or completers of these HRSA-funded programs, the NHSC will require applicants to respond to the following additional questions:

(1) Have you completed a postgraduate training?

(2) Applicants who selected “yes” to the question above are required to submit the National Practitioner Identifier number.

(3) Further, if applicable, applicants are asked to enter the residency identification number and their residency completion certificate, if available.

NHSC policy requires behavioral health providers to practice in a community-based setting that provides access to comprehensive behavioral health services. Accordingly, for those sites seeking to be assigned behavioral health NHSC participants, additional site information will be collected from an NHSC Comprehensive Behavioral Health Services Checklist. NHSC sites that do not directly offer all required behavioral health services must demonstrate a formal affiliation with a comprehensive, community-based primary behavioral health setting or facility to provide these services.

Likely Respondents: Likely respondents include (1) licensed primary care medical, dental, and behavioral health providers who are employed or seeking employment, and are interested in serving underserved populations; (2) health care facilities interested in participating in the NHSC and becoming an NHSC-approved service site; and (3) NHSC sites providing behavioral health care services directly, or through a formal affiliation with a comprehensive community-based primary behavioral health setting or facility providing comprehensive behavioral health services.

Burden Statement: Burden in this context means the time expended by persons to generate, maintain, retain, disclose, or provide the information requested. This includes the time needed to review instructions; to develop, acquire, install, and utilize technology and systems for the purpose of collecting, validating and verifying information, processing and maintaining information, and disclosing and providing information; to train personnel and to be able to respond to a collection of information; to search data sources; to complete and review the collection of information; and to transmit or otherwise disclose the information. The total annual burden hours estimated for this Information Collection Request are summarized in the table below.

Total Estimated Annualized Burden Hours
Form name | Number of respondents | Number of responses per respondent | Total responses | Average burden per response (in hours) | Total burden hours
NHSC LRP Application | 9,020 | 1 | 9,020 | 1.00 | 9,020
Authorization for Disclosure of Loan Information Form | 7,150 | 1 | 7,150 | .10 | 715
Privacy Act Release Authorization Form | 303 | 1 | 303 | .10 | 30
Verification of Disadvantaged Background Form | 660 | 1 | 660 | .50 | 330
Private Practice Option Form | 330 | 1 | 330 | .10 | 33
NHSC Comprehensive Behavioral Health Services Checklist | 4,400 | 1 | 4,400 | .13 | 572
NHSC Site Application (including recertification) | 4,070 | 1 | 4,070 | .5 | 2,035
Total | 25,933 |  | 25,933 |  | 12,735

Maria G. Button,
Director, Executive Secretariat.

[FR Doc. 2023-00819 Filed 1-17-23; 8:45 am]

BILLING CODE 4165-15-P